DEPARTMENT OF ENERGY

Federal Energy Regulatory Commission

[Project No. 4900-090]

Forestport Hydro, LLC; Notice of Scoping Period Requesting Comments on Environmental Issues for the Proposed Forestport Hydroelectric Project

Take notice that the following hydroelectric application has been filed with the Commission and is available for public inspection.

a. Type of Application: New License.

b. Project No.: 4900-090.

c. Date Filed: February 27, 2025.

d. Applicant: Forestport Hydro, LLC.

e. Name of Project: Forestport Hydroelectric Project.

f. Location: On the Black River in Oneida County, New York.

g. Filed Pursuant to: Federal Power Act, 16 U.S.C. 791(a)-825(r).

h. Applicant Contact: Antonio Zarella, Chief Operating Officer, Forestport Hydro, LLC, 230 Park Avenue, Suite 447, New York, NY 10169; telephone at (315) 247-0253; email at TZ@relevatepower.com.

i. FERC Contact: Erin Mocko, Project Coordinator, Great Lakes Branch, Division of Hydropower Licensing; telephone at (202) 502-8107; email at Erin.mocko@ferc.gov.

j. The staff of the Federal Energy Regulatory Commission (FERC or Commission) will prepare an environmental document that will discuss the environmental effects of relicensing the Forestport Hydroelectric Project. The Commission will use this environmental document in its decision-making process to determine whether to issue a new license for the project.

k. This notice announces the opening of the scoping process the Commission will use to gather input from the public and interested agencies regarding the project. This notice is intended to advise all participants as to the potential scope of the National Environmental Policy Act (NEPA) document and to seek additional information pertinent to this analysis. Commission staff does not intend to issue a separate scoping document.

As part of the NEPA review process, the Commission takes into account concerns the public may have about proposals and the environmental effects that could result from its action whenever it considers the issuance of a hydropower license. This gathering of public input is referred to as “scoping.” The main goal of the scoping process is to focus the analysis in the environmental document on the important environmental issues.

l. Scoping Comments: By this notice, the Commission requests written public comments on the scope of issues to address in the environmental document. To ensure that your comments are timely and properly recorded, please submit your comments so that the Commission receives them in Washington, DC on or before 5:00 p.m. Eastern Time on October 20, 2025.

Comments should focus on the potential environmental effects and reasonable alternatives. Your input will help the Commission staff determine what issues they need to evaluate in the environmental document. Commission staff will consider all written comments during the preparation of the environmental document.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Forestport Hydroelectric Project (P-4900-090).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

m. The application is not ready for environmental analysis at this time.

n. Project Description: The existing project consists of a 27-foot-high dam known as the Forestport Dam, that includes a 315-foot-long ogee spillway. The Forestport Dam creates an impoundment that has a surface area of 118 acres at a normal surface elevation of 1,126.55 feet National Geodetic Vertical Datum 1929 (NGVD29).

From the impoundment, water flows through gates and a canal to a forebay known as Alder Pond. Alder Pond has a surface area of 24 acres at a normal surface elevation of 1,124.6 feet NGVD29 and is formed by a 550-foot-long, 15-foot-high earth embankment known as Alder Pond Dam.

From Alder Pond, water flows through a power canal to an intake structure with trashracks with 1.75-inch clear bar spacing. From the intake structure, water flows through a penstock to a powerhouse that includes a 3.3-megawatt (MW) S-type Kaplan turbine-generator unit. From the powerhouse, water is released into a tailrace that discharges into the Black River.

The project generators are connected to the regional electric grid by generator lead lines and a 4.16/46-kV transformer.

Project recreation facilities include: (1) Alder Pond parking and access area, adjacent to the east side of the Alder Pond Dam; (2) Forestport impoundment parking and access area, adjacent to the Forestport Dam on the northwest shore of the Forestport impoundment; (3) an approximately 1,200 foot-long portage route from the Forestport access area to the Alder Pond access area; (4) an approximately 150-foot-long power canal portage route; and (5) a powerhouse parking and access area.

Forestport Hydro proposes to: (1) continue operating the project in a run-of-river mode and maintaining the surface elevation of the Forestport impoundment at 1,126.55 feet NGVD29; (2) continue to maintain the surface elevation of Alder Pond between 1,123.6 and 1,124.6 feet NGVD29; (3) continue to release a minimum flow of 140 cfs or inflow, whichever is less, over the Forestport Dam; (4) implement a Bat and Bald Eagle Management Plan and an Invasive Species Management Plan; (5) develop an operation compliance monitoring plan; (6) continue to maintain existing project recreation facilities and update directional and safety signage; (7) move the power canal portage take-out site upstream of the boat barrier; and (8) to protect cultural resources, consult with the New York State Historic Preservation Officer before beginning any land-clearing or land-disturbing activities.

A copy of the application, with details of the proposed project, can be viewed on the Commission's website at https://www.ferc.gov using the “eLibrary” link. Enter the project's docket number excluding the last three digits in the docket number field to access the document (P-4900). For assistance, contact FERC at FERCOnlineSupport@ferc.gov, (866) 208-3676 (toll free), or (202) 502-8659 (TTY).

o. NEPA Process and the Environmental Document: Any environmental document issued by the Commission will discuss effects that could occur as a result of the project's relicensing under the relevant general resource areas, such as:

• aquatic resources;

• terrestrial resources;

• threatened and endangered species;

• recreation and land use resources;

• cultural resources; and

• developmental resources.

Commission staff will also evaluate reasonable alternatives to the proposed project or portions of the project and make recommendations on how to lessen or avoid effects on the various resource areas. Your comments will help Commission staff identify and focus on the issues that might have an effect on the human environment and potentially eliminate others from further discussion in the environmental document.

Following this scoping period, Commission staff will determine whether to prepare an Environmental Assessment (EA) or an Environmental Impact Statement (EIS). The EA or EIS will present Commission staff's independent analysis of the issues. If Commission staff prepares an EA, a Notice of Intent to Prepare an Environmental Assessment will be issued. The EA may be issued for an allotted public comment period. The Commission would consider timely comments on the EA before making its decision regarding the proposed project. If Commission staff prepares an EIS, a Notice of Intent to Prepare an Environmental Impact Statement will be issued. Staff will then prepare a draft EIS which will be issued for public comment. Commission staff will consider all timely comments received during the comment period on the draft EIS and revise the document, as necessary, before issuing a final EIS. Any EA or draft and final EIS will be available in electronic format in the public record through eLibrary. If eSubscribed, you will receive instant email notification when the environmental document is issued (see paragraph (r) of this notice for instructions on using eSubscription).

p. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

q. This notice is being distributed to the Commission's official mailing list for the project and any additional entities on the applicant's distribution list. You can access the Commission's official mailing list for this project at https://ferconline.ferc.gov/MailListLOR.aspx?Type=MailList&ListVar=P-4900. If you want to receive future mailings for the project and are not included on the Commission's official mailing list, or if you wish to be removed from the Commission's official mailing list, please send your request by email to FERCOnlineSupport@ferc.gov. In lieu of an email request, you may submit a paper request. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All written or emailed requests must specify your wish to be added to or removed from the mailing list, and must clearly identify the following on the first page: Forestport Hydroelectric Project No. 4900-090.

Additionally, the Commission offers a free service called eSubscription, which makes it easy to stay informed of all issuances and submittals regarding the dockets/projects to which you subscribe. These instant email notifications are the fastest way to receive notification and provide a link to the document files which can reduce the amount of time you spend researching proceedings. Go to https://www.ferc.gov/ferc-online/overview to register for eSubscription.

In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-4900). For assistance, contact FERC at FERCOnlineSupport@ferc.gov, (866) 208-3676 (toll free), or (202) 502-8659 (TTY).

Dated: September 19, 2025.
Debbie-Anne A. Reese,
Secretary.

[FR Doc. 2025-18536 Filed 9-24-25; 8:45 am]

BILLING CODE 6717-01-P